DEPARTMENT OF TRANSPORTATION

Federal Aviation Administration

Notice of Opportunity for Public Comment on Surplus Property Release at Ted Stevens Anchorage International Airport, Anchorage, Alaska.

AGENCY: Federal Aviation Administration, DOT.

ACTION: Request for Public Comments.

SUMMARY: The FAA is considering a proposal to change approximately 40 acres of airport land from aeronautical use to non-aeronautical use at Ted Stevens Anchorage International Airport, Anchorage, Alaska. It is determined through study and master planning that the property will not be needed for aeronautical purposes for the foreseeable future as this portion of the parcel is not contiguous with the airport proper and is significantly geographically separated from the operational areas of the airport. A change to non-aeronautical use does not exclude aeronautical activities in this area in the future.

DATES: Comments must be received on or before March 9, 2015.

ADDRESSES: Comments may be mailed or delivered to the FAA at the following address: Pat Oien, Alaskan Region Airports Division, Federal Aviation Administration, 222 West 7th Avenue, #14, Anchorage, Alaska 99513-7587 (phone 907-271-5445). In addition, one copy of the comment submitted to the FAA must be mailed or delivered to: Teri Lindseth, Planning Manager, TSAIA, P.O. Box 196960, Anchorage, AK 99519-6960 (phone 907-266-2544).

SUPPLEMENTARY INFORMATION: Under the provisions of Title 49, U.S.C. Section 47153(c), this notice is being published in the Federal Register 30 days before the DOT Secretary may waive any condition imposed on a federally obligated airport by surplus property conveyance deeds.

Ted Stevens Anchorage International Airport was conveyed this property on April 22, 2014, from the Federal government for use as a public airport.

Legal Description: Lot 6, Section 4, Township 12 North, Range 4 West, Seward Meridian, State of Alaska.

Issued in Anchorage, Alaska on January 26, 2015.
Byron K. Huffman,
Manager, Airports Division, Alaskan Region.

[FR Doc. 2015-01823 Filed 1-29-15; 8:45 am]

BILLING CODE 4910-13-P